SUSQUEHANNA RIVER BASIN COMMISSION

Commission Meeting

AGENCY: Susquehanna River Basin Commission.

ACTION: Notice.

SUMMARY: The Susquehanna River Basin Commission will hold its regular business meeting on June 14, 2019, in Harrisburg, Pennsylvania. Details concerning the matters to be addressed at the business meeting are contained in the Supplementary Information section of this notice. Also the Commission published a document in the Federal Register on April 11, 2019, concerning its public hearing on May 9, 2019, in Harrisburg, Pennsylvania.

DATES: The meeting will be held on Friday, June 14, 2019, at 9 a.m.

ADDRESSES: The meeting will be held at the Susquehanna River Basin Commission, 4423 N. Front Street, Harrisburg, PA 17110.

FOR FURTHER INFORMATION CONTACT: Jason E. Oyler, General Counsel and Secretary to the Commission, telephone: 717-238-0423; fax: 717-238-2436.

SUPPLEMENTARY INFORMATION: The business meeting will include actions or presentations on the following items: (1) Informational presentation of interest to the middle Susquehanna River region; (2) expense budget for FY2021; (3) member allocation for FY2021; (4) ratification/approval of contracts/grants; (5) emergency certificate extensions; (6) a report on delegated settlements; (7) the proposed water resources program for FY2019-2021; and (8) Regulatory Program projects.

This agenda is complete at the time of issuance, but other items may be added, and some stricken without further notice. The list of an item on the agenda does not necessarily mean that the Commission will take final action on it at this meeting. When the Commission does take final action, notice of these actions will be published in the Federal Register after the meeting. Any actions specific to projects will also be provided in writing directly to project sponsors.

Regulatory Program projects listed for Commission action were those that were the subject of public hearings conducted by the Commission on May 9, 2019, and identified in the notices for such hearings, which was published in 84 FR 14712, April 11, 2019.

The public is invited to attend the Commission's business meeting. Comments on the Regulatory Program projects are subject to a deadline of May 20, 2019. Written comments pertaining to other items on the agenda at the business meeting may be mailed to the Susquehanna River Basin Commission, 4423 North Front Street, Harrisburg, Pennsylvania 17110-1788, or submitted electronically through www.srbc.net/about/meetings-events/business-meeting.html. Such comments are due to the Commission on or before June 10, 2019. Comments will not be accepted at the business meeting noticed herein.

Authority: Pub. L. 91-575, 84 Stat. 1509 et seq., 18 CFR parts 806, 807, and 808.

Dated: May 10, 2019.
Jason E. Oyler,
General Counsel and Secretary to the Commission.

[FR Doc. 2019-10034 Filed 5-14-19; 8:45 am]

BILLING CODE 7040-01-P